DEPARTMENT OF STATE

[Public Notice: 9929]

Notice of Stakeholder Consultations on Responsible Conflict Mineral Sourcing

AGENCY: Department of State.

ACTION: Notice; solicitation of comments.

SUMMARY: The United States announces that the United States remains committed to working with our partners to break the links between armed groups and the minerals trade in the Democratic Republic of Congo and other countries in the Great Lakes Region of Africa. The United States has played a leading role encouraging responsible sourcing and supply chain management in the minerals sector in this region as part of broader U.S. efforts to support peace and security, and to ensure that the region's resource wealth helps advance broad, inclusive, and sustainable socio-economic development. The U.S. Department of State (Department), along with other agencies and departments is seeking input from stakeholders to inform recommendations of how best to support responsible sourcing of tin, tantalum, tungsten and gold.

DATES: The Department will consider requests and comments received or postmarked by April 28, 2017.

ADDRESSES: Parties may submit input or request stakeholder consultations to: ConflictMineral@state.gov. If sent by mail, written comments should be addressed to: Ms. Elizabeth Orlando, U.S. Department of State, 2201 C Street NW., Room 3843, Washington, DC 20520. All comments should include a contact person.

All comments received during this comment period will be part of the official record and may become public, no matter how initially submitted.

FOR FURTHER INFORMATION CONTACT: Details on the SEC Final Rule on Section 1502 of the Dodd-Frank Act are available on the following Web site: https://www.sec.gov/rules/final/2012/34-67716.pdf. Information on the Department's commitment to international responsible sourcing standards is available on the following Web sites: https://www.state.gov/documents/organization/168851.pdf, http://www.oecd.org/corporate/mne/mining.htm.

Please refer to this Web site or contact Ms. Elizabeth Orlando at the address listed in the Addresses section of this notice.

SUPPLEMENTARY INFORMATION: Determined to break the link between armed groups and minerals in the Africa Great Lakes Region, in 2010 Congress enacted Section 1502 of the Wall Street Consumer Reform and Protection Act of 2010. That law requires the Securities and Exchange Commission to promulgate regulations requiring approximately 6,000 companies listed on U.S. exchanges to annually disclose to the SEC whether any “conflict minerals” (tin, tantalum, tungsten and gold) necessary to the functionality or production of a product are from the DRC or nine adjacent countries.

Andrew Weinschenk,
Director, Office of Threat Finance Countermeasures, Department of State.

[FR Doc. 2017-05972 Filed 3-24-17; 8:45 am]

BILLING CODE 4710-AE-P